DEPARTMENT OF TRANSPORTATION

Federal Aviation Administration

Notice of Availability of a Draft Environmental Assessment for the Proposed New Air Traffic Control Tower at the St. Louis Downtown Airport in Cahokia, IL

AGENCY: Federal Aviation Administration (FAA), DOT.

ACTION: Notice of availability of a Draft Environmental Assessment for the proposed new Air Traffic Control Tower at the St. Louis Downtown Airport in Cahokia, Illinois.

SUMMARY: the Federal Aviation Administration (FAA) has prepared and is making available the Draft Environmental Assessment (DEA) for the following proposed action at the St. Louis Downtown Airport: The construction of a new Air Traffic Control Tower, associated support building, parking lot, and access road.

The Draft EA is being prepared in accordance with the National Environmental Policy Act (NEPA) of 1969, as amended, FAA Order 1050.1E “Environmental Impacts: Policies and Procedures”, and FAA Order 5050.4A, “Airport Environmental Handbook.” The proposed development action is consistent with the National Airspace System Plan prepared by the U.S. Department of Transportation, Federal Aviation Administration (FAA).

A Draft Environmental Assessment will be available for public review and comment at the following locations:

St. Louis Downtown Airport, Administration Office, 1680 Sauget Industrial Parkway, Sauget, IL 62206-1449.

Cahokia Public Library, 140 Cahokia Park Drive, Cahokia, IL 62206.

ADDRESSES: Written comments are encouraged from persons or interested parties. Written comments concerning the Draft EA will be accepted until 5 p.m. c.s.t., Tuesday, June 15, 2005. Written comments may be sent to: Ms. Virginia Marcks, ANI-430, Federal Aviation Administration, 2300 East Devon Avenue, Des Plaines, IL 60018.

FOR FURTHER INFORMATION CONTACT: Ms. Virginia Marcks, Environmental Engineer, ANI-430, Federal Aviation Administration, 2300 East Devon Avenue, Des Plaines, Illinois 60018. Telephone number: (847) 294-7494.

SUPPLEMENTARY INFORMATION:

Background

The existing ATCT at the St. Louis Downtown Airport was built in 1973 and soon after was expanded by the addition of a mobile office trailer to house administrative personnel. The current tower stands approximately 52 feet in height with a controller's eye height of approximately 41 feet. Continual visibility problems, due to existing trees in an adjacent residential development, impeded the controller's line of sight for airfield movement areas and runway approaches. The visibility problem, due to trees obscuring significant portions of two runway ends, 4 and 30L, is ongoing and worsening. The proposed ATCT, with a total elevation of 138′ Above Ground Level (AGL) and a controller eye height of 116′ 4″ AGL would significantly improve visual capabilities.

Air traffic controller equipment in the existing tower has not been significantly upgraded since the ATCT was constructed in 1973, although there has been nearly a 50 percent increase in airport operations over the past 30 years. In the nearly 1970s, when the existing ATCT was constructed, annual aircraft operations recorded during operating hours of 7 a.m. to 9 p.m. totaled approximately 115,000. In 2001, the total number of operations recorded between the 7 a.m. to 9 p.m. timeframe was nearly 170,000. The proposed ATCT would allow for modernized equipment, enhancing the level of safety for the current number of aircraft operations at the St. Louis Downtown Airport.

Issued in Des Plaines, Illinois May 13, 2005.
Art V. Schultz,
Acting Manager, Chicago NAS Implementation Center, ANI-400 Great Lakes Region.

[FR Doc. 05-9921 Filed 5-17-05; 8:45 am]

BILLING CODE 4910-13-M